DEPARTMENT OF ENERGY

Federal Energy Regulatory Commission

[Docket Nos. CP13-499-006, CP18-5-004]

Constitution Pipeline Company, LLC; Notice of Petition and Establishing Intervention Deadline

Take notice that on December 19, 2025, Constitution Pipeline Company, LLC (Constitution), P.O. Box 1396, Houston, Texas 77251-1396, filed a petition pursuant to section 7(c) of the Natural Gas Act (NGA) and Part 157 of the Commission's regulations seeking reissuance of a certificate of public convenience and necessity authorizing Constitution to construct and operate its previously approved Constitution Pipeline Project (Project) (Petition).¹

¹ Constitution Pipeline Co., LLC, 149 FERC ¶ 61,199 (2014) (Certificate Order), reh'd denied, 154 FERC ¶ 61,046 (2016), vacated sub nom. New York State Dep't of Envt. Conservation v. FERC, No.19-4338 (2d Cir. Nov. 18, 2021).

Constitution states that project facilities would match its original proposal with the exception of limited variances previously approved by the Commission. Specifically, Constitution requests reissuance of certificate authority to construct: (1) approximately 125 miles of 30-inch-diameter pipeline in Susquehanna County, Pennsylvania and Broome, Chenango, Delaware, and Schoharie Counties, New York; (2) the Turnpike Road Metering and Regulating (M&R) Station in Susquehanna County, Pennsylvania; (3) a receipt tap in Susquehanna County, Pennsylvania; (4) the Westfall Road M&R Station at Iroquois Gas Transmission System, L.P.'s (Iroquois) Wright Compressor Station in Schoharie County, New York; (5) 11 mainline valve assemblies; (6) pig launcher/receiver facilities; and (7) other appurtenant facilities.

The Project is designed to provide 650,000 dekatherms per day of firm transportation service from production areas in Pennsylvania to markets in New York and New England. Constitution requests approval of the same pro forma tariff approved in the Certificate Order. Constitution would offer cost-based firm transportation service, interruptible transportation service, and park and loan service under Rate Schedules FT, IT, and PAL, respectively. Constitution states that it intends to update the cost of facilities and recourse rates for the Project following a later petition by Iroquois seeking reissuance of the certificate of public convenience and necessity for its related Wright Interconnect Project.² Until the details of Iroquois's petition are filed and more fully understood, the Commission cannot complete its analysis of the Petition.

² The Commission's previous Final Environmental Impact Statement (accession number 20141024-4001) and Certificate Order addressed both the Constitution Pipeline Project and the Wright Interconnect Project.

Further, Constitution requests that the Commission reaffirm that the New York State Department of Environmental Conservation waived its authority under section 401 of the Clean Water Act by failing or refusing to act on Constitution's request for a water quality certification within one year.³

³ Constitution Pipeline Co., LLC, 168 FERC ¶ 61,129 (2019) (concluding waiver), reh'g denied, 169 FERC ¶ 61,199 (2019), vacated sub nom. New York State Dep't of Envt. Conservation v. FERC, No.19-4338 (2d Cir. Nov. 18, 2021).

All details are more fully set forth in the petition which is on file with the Commission and available for public inspection. Constitution states that it incorporates by reference the exhibits from its original certificate application on June 13, 2013, the entire record of the Project in Docket No. CP13-499-000, and the waiver determination in Docket No. CP18-5-000.

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

Any questions regarding the petition should be directed to Constitution Pipeline Company, LLC, P.O. Box 1396, Houston, Texas 77251-1396, by phone at (888) 275-9084, or by email at outreach@williams.com.

Public Participation

There are three ways to become involved in the Commission's review of this petition: you can file comments on the petition, you can protest the filing, and you can file a motion to intervene in the proceeding. There is no fee or cost for filing comments or intervening. The deadline for filing a motion to intervene is 5:00 p.m. Eastern Time on January 29, 2026. Parties in the original dockets (CP13-499-000 and CP18-5-000) do not need to file a new motion to intervene. How to file protests, motions to intervene, and comments is explained below.

For public inquiries and assistance with making filings such as interventions, comments, or requests for rehearing, contact the Office of Public Participation (OPP) at (202) 502-6595 or OPP@ferc.gov.

Comments

Any person wishing to comment on the petition may do so. Comments may include statements of support or objections, to the petition as a whole or specific aspects of the petition. The more specific your comments, the more useful they will be.

Protests

Pursuant to sections 157.10(a)(4) ⁴ and 385.211 ⁵ of the Commission's regulations under the NGA, any person ⁶ may file a protest to the petition. Protests must comply with the requirements specified in section 385.2001 ⁷ of the Commission's regulations. A protest may also serve as a motion to intervene so long as the protestor states it also seeks to be an intervenor.

⁴ 18 CFR 157.10(a)(4).

⁵ 18 CFR 385.211.

⁶ Persons include individuals, organizations, businesses, municipalities, and other entities. 18 CFR 385.102(d).

⁷ 18 CFR 385.2001.

To ensure that your comments or protests are timely and properly recorded, please submit your comments on or before 5:00 p.m. Eastern Time on January 29, 2026.

There are three methods you can use to submit your comments or protests to the Commission. In all instances, please reference the Petition docket numbers CP13-499-006 and CP18-5-004 in your submission.

(1) You may file your comments electronically by using the eComment feature, which is located on the Commission's website at www.ferc.gov under the link to Documents and Filings. Using eComment is an easy method for interested persons to submit brief, text-only comments on a petition;

(2) You may file your comments or protests electronically by using the eFiling feature, which is located on the Commission's website (www.ferc.gov) under the link to Documents and Filings. With eFiling, you can provide comments in a variety of formats by attaching them as a file with your submission. New eFiling users must first create an account by clicking on “eRegister.” You will be asked to select the type of filing you are making; first select “General” and then select “Comment on a Filing”; or

(3) You can file a paper copy of your comments or protests by mailing them to the following address below. Your written comments must reference the Petition docket numbers (CP13-499-006 and CP18-5-004).

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission encourages electronic filing of comments (options 1 and 2 above) and has eFiling staff available to assist you at (202) 502-8258 or FercOnlineSupport@ferc.gov.

The Commission considers all comments received about the petition in determining the appropriate action to be taken. However, the filing of a comment alone will not serve to make the filer a party to the proceeding. To become a party, you must intervene in the proceeding. For instructions on how to intervene, see below.

Interventions

Any person, which includes individuals, organizations, businesses, municipalities, and other entities,⁸ has the option to file a motion to intervene in this proceeding. Parties in the original dockets (CP13-499-000 and CP18-5-000) do not need to file a new motion to intervene. Only intervenors have the right to request rehearing of Commission orders issued in this proceeding and to subsequently challenge the Commission's orders in the U.S. Circuit Courts of Appeal.

⁸ 18 CFR 385.102(d).

To intervene, you must submit a motion to intervene to the Commission in accordance with Rule 214 of the Commission's Rules of Practice and Procedure ⁹ and the regulations under the NGA ¹⁰ by the intervention deadline for the petition, which is 5:00 p.m. Eastern Time on January 29, 2026. As described further in Rule 214, your motion to intervene must state, to the extent known, your position regarding the proceeding, as well as your interest in the proceeding. For an individual, this could include your status as a landowner, ratepayer, resident of an impacted community, or recreationist. You do not need to have property directly impacted by the petition in order to intervene. For more information about motions to intervene, refer to the FERC website at https://www.ferc.gov/resources/guides/how-to/intervene.asp.

⁹ 18 CFR 385.214.

¹⁰ 18 CFR 157.10.

There are two ways to submit your motion to intervene. In both instances, please reference the Petition docket numbers CP13-499-006 and CP18-5-004 in your submission.

(1) You may file your motion to intervene by using the Commission's eFiling feature, which is located on the Commission's website (www.ferc.gov) under the link to Documents and Filings. New eFiling users must first create an account by clicking on “eRegister.” You will be asked to select the type of filing you are making; first select “General” and then select “Intervention.” The eFiling feature includes a document-less intervention option; for more information, visit https://www.ferc.gov/docs-filing/efiling/document-less-intervention.pdf.; or

(2) You can file a paper copy of your motion to intervene, along with three copies, by mailing the documents to the address below. Your motion to intervene must reference the Petition docket number CP13-499-006 and CP18-5-004.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission encourages electronic filing of motions to intervene (option 1 above) and has eFiling staff available to assist you at (202) 502-8258 or FercOnlineSupport@ferc.gov.

Protests and motions to intervene must be served on the petitioner either by mail at: Constitution Pipeline Company, LLC, P.O. Box 1396, Houston, Texas 77251-1396 or by email (with a link to the document) at outreach@williams.com. Any subsequent submissions by an intervenor must be served on the petitioner and all other parties to the proceeding. Contact information for parties can be downloaded from the service list at the eService link on FERC Online. Service can be via email with a link to the document.

All timely, unopposed ¹¹ motions to intervene are automatically granted by operation of Rule 214(c)(1).¹² Motions to intervene that are filed after the intervention deadline are untimely, and may be denied. Any late-filed motion to intervene must show good cause for being late and must explain why the time limitation should be waived and provide justification by reference to factors set forth in Rule 214(d) of the Commission's Rules and Regulations.¹³ A person obtaining party status will be placed on the service list maintained by the Secretary of the Commission and will receive copies (paper or electronic) of all documents filed by the petition and by all other parties.

¹¹ The petitioner has 15 days from the submittal of a motion to intervene to file a written objection to the intervention.

¹² 18 CFR 385.214(c)(1).

¹³ 18 CFR 385.214(b)(3) and (d).

Tracking the Proceeding

Throughout the proceeding, additional information about the petition will be available from OPP at (202) 502-6595 or on the FERC website at www.ferc.gov using the “eLibrary” link as described above. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. For more information and to register, go to www.ferc.gov/docs-filing/esubscription.asp.

Intervention Deadline: 5:00 p.m. Eastern Time on January 29, 2026.

(Authority: 18 CFR 2.1)

Dated: January 8, 2026.
Carlos D. Clay,
Deputy Secretary.

[FR Doc. 2026-00481 Filed 1-12-26; 8:45 am]

BILLING CODE 6717-01-P